DEPARTMENT OF ENERGY

Federal Energy Regulatory Commission

[Project No. 1858-023]

Beaver City Corporation; Notice of Application Ready for Environmental Analysis and Soliciting Comments, Recommendations, Terms and Conditions, and Prescriptions

Take notice that the following license application has been filed with the Commission and is available for public inspection.

a. Type of Application: Subsequent Minor License.

b. Project No.: P-1858-023.

c. Date Filed: July 30, 2021.

d. Applicant: Beaver City Corporation (Beaver City).

e. Name of Project: Beaver City Canyon Plant No. 2 Hydroelectric Project (Beaver City Project).

f. Location: The existing hydroelectric project is located on the Beaver River, in Beaver County, Utah, about 5 miles east of the city of Beaver. The project currently occupies 10.2 acres of federal land administered by the U.S. Forest Service, and 2.4 acres of federal land managed by the U.S. Bureau of Land Management. As proposed, the project would occupy 10.5 acres of federal land administered by the U.S. Forest Service and 2.4 acres of federal land administered by the U.S. Bureau of Land Management.

g. Filed Pursuant to: Federal Power Act 16 U.S.C. 791(a)-825(r).

h. Applicant Contact: Jason Brown, Beaver City Manager, 30 West 300 North, Beaver, UT 84713; (435) 438-2451.

i. FERC Contact: Evan Williams, (202) 502-8462, evan.williams@ferc.gov.

j. Deadline for filing comments, recommendations, terms and conditions, and prescriptions: 60 days from the issuance date of this notice; reply comments are due 105 days from the issuance date of this notice.

The Commission strongly encourages electronic filing. Please file comments, recommendations, terms and conditions, and prescriptions using the Commission's eFiling system at https://ferconline.ferc.gov/FERC.aspx. Commenters can submit brief comments up to 6,000 characters, without prior registration, using the eComment system at https://ferconline.ferc.gov/Quick.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. All filings must clearly identify the project name and docket number on the first page: Beaver City Canyon Plant No. 2 Hydroelectric Project (P-1858-023).

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted and is ready for environmental analysis at this time.

l. The existing Beaver City Project consists of: (1) a small reservoir with a normal pool elevation of 6,769 feet, a surface area of about 0.15 acres, and a storage capacity of approximately 1-acre-foot; (2) a 15.5-foot-high by 65-foot-wide diversion dam; (3) a 30-inch-diameter, 11,632-foot-long steel penstock; (4) a 34-foot-long by 41-foot-wide stone powerhouse containing an impulse turbine and one generating unit with an installed capacity of 625 kilowatts; (5) a 4-foot-wide by 150-foot-long tailrace channel; (6) a 12.5-kilovolt, approximately 21,000-foot-long transmission line; and (7) appurtenant facilities. The estimated average annual generation (2012 to 2017) is 4,446 megawatt-hours.

Beaver City Corporation proposes to abandon the existing: (1) powerhouse; (2) portion of penstock between the existing powerhouse and proposed new powerhouse; (3) buried line from the turbine generator to the transformer on the west side of the existing powerhouse; (4) old transformer; (5) overhead line from the old transformer to the start of the transmission line on the west bank of the Beaver River; and (6) tailrace. As such, Beaver City proposes to remove approximately 50 feet of the existing penstock, increase the existing project boundary, and construct: (1) a new 40-foot-long by 27-foot-wide metal-walled powerhouse, with a reinforced concrete foundation, to contain one new turbine-generator with an installed capacity of 720 kilowatts; (2) a new approximately 35-foot-long buried line from the new turbine-generator to the new transformer; (3) a new approximately 33-foot-long buried line from the new transformer to a 40-foot-tall intermediate pole of wood and metal construction; (4) a new 120-foot-long overhead line from the intermediate pole to the start of the existing transmission line; and (5) a new 43-foot-long tailrace that tailrace varies from 7.5 feet wide adjacent to powerhouse to 19 feet wide at point of discharge. The section of tailrace adjacent to the powerhouse would be a 9-foot-long by 7.5-foot-wide concrete structure and would terminate prior to the ordinary high-water mark of the Beaver River. The remainder of the tailrace would be of earthen construction, rock-lined, and shaped to return flow to the river with minimal turbulence. The new powerhouse, power distribution facilities, and tailrace would be constructed approximately 50 feet upstream (south) of the existing powerhouse and enclosed by approximately 240 feet of 8-foot-tall chain-link perimeter fence. Beaver City proposes to preserve the existing powerhouse and operate it as a museum.

m. A copy of the application can be viewed on the Commission's website at http://www.ferc.gov using the “eLibrary” link. Enter the docket number excluding the last three digits in the docket number field to access the document. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b) and 385.2010.

You may also register online at https://ferconline.ferc.gov/FERCOnline.aspx to be notified via email of new filings and issuances related to this or other pending projects. For assistance, contact FERC Online Support.

n. The applicant must file no later than 60 days following the date of issuance of this notice either: (1) evidence of the date on which the certifying agency received the certification request; (2) a copy of the water quality certification; or (3) evidence of waiver of water quality certification.

o. Procedural schedule: The application will be processed according to the following schedule. Revisions to the schedule will be made as appropriate.

Deadline for Filing Comments, Recommendations, and Agency Terms and Conditions/Prescriptions—August 12, 2022

Licensee's Reply to REA Comments—September 26, 2022

p. Final amendments to the application must be filed with the Commission no later than 30 days from the issuance date of this notice.

Dated: June 13, 2022.
Debbie-Anne A. Reese,
Deputy Secretary.

[FR Doc. 2022-13120 Filed 6-16-22; 8:45 am]

BILLING CODE 6717-01-P